POSTAL SERVICE

Request for Proposals for Semipostal Stamps

AGENCY: Postal Service.

ACTION: Notice of request for proposals.

SUMMARY: Pursuant to 39 U.S.C. 416, and 39 CFR Part 551, the Postal Service is requesting proposals from interested persons on causes and recipient executive agencies for two future semipostal stamps. The first is expected to be issued for a 2-year period beginning in mid-2002, and the second is expected to be issued for a 2-year period beginning in mid-2004.

DATES: The office of Stamp Services must receive an original and 20 copies of each proposal on or before August 31, 2001, at 4:00 p.m. eastern time. Interested persons are encouraged to send their proposals early, and should budget time for proposals to be distributed by internal mail systems.

ADDRESSES: Proposals should be mailed or delivered to the Manager, Stamp Services, ATTN: Semipostal Stamp Program, 475 L'Enfant Plaza SW, Room 5670, Washington, DC 20260-2435.

FOR FURTHER INFORMATION CONTACT: Liz Altobell, (202) 268-2319.

SUPPLEMENTARY INFORMATION: The Semipostal Authorization Act, Public Law 106-253, 114 Stat. 634 (2000) (hereinafter “Act”), authorizes the Postal Service to establish a 10-year program to sell semipostal stamps. The Act prescribes that the price of a semipostal stamp is the “rate of postage that would otherwise regularly apply,” plus a differential, that is, the difference between sales revenue and postage, not to exceed 25 percent. The differential between the price of a semipostal stamp and the First-Class Mail® service rate, less an offset for the reasonable costs of the Postal Service, consists of an amount to fund causes that the “Postal Service determines to be in the national public interest and appropriate.” By law, revenue from sales (net of postage and the reasonable costs of the Postal Service) is to be transferred to a selected executive agency or agencies within the meaning of 5 U.S.C. 105.

In a notice published in the Federal Register, the Postal Service has adopted 39 CFR Part 551, which consists of regulations implementing the Act. Pursuant to 39 CFR 551.3, the Postal Service invites interested persons to submit proposals for causes and recipient executive agencies for two semipostal stamps. The first semipostal stamp is expected to be sold to the public for a 2-year period beginning in mid-2002, and the second semipostal stamp is expected to be sold to the public for a 2-year period beginning in mid-2004.

Proposals submitted in response to this notice will be examined by the office of Stamp Services for consistency with the requirements in 39 CFR Part 551. Those proposals determined by the office of Stamp Services to satisfy the requirements of 39 CFR 551.4 will be forwarded to the Citizens' Stamp Advisory Committee (CSAC). The CSAC intends to consider eligible proposals at upcoming regularly scheduled meetings. The Postal Service expects that the CSAC will make recommendations to the postmaster general later in 2001, followed by a final decision by, and announcement from, the postmaster general. The Postal Service discourages contacting the office of Stamp Services by telephone to inquire about the status of proposals. Announcements concerning semipostal stamps will be posted on the Postal Service's Web site in the philatelic news area on www.usps.com, and interested persons should monitor postings on this Web site for further information on the selection of causes and recipient executive agencies.

Interested persons should consult the regulations in 39 CFR Part 551, as they specify the requirements for proposals. They should also take note that section 551.4 lists the specific requirements for proposals, which include, inter alia, the following:

• An original and 20 copies of the proposal must be timely submitted. If possible, an Adobe Acrobat (.pdf) file should be submitted, saved on a 3.5-inch diskette or CD-ROM diskette, containing the entire contents of the submission.

• The proposal submission must be signed by the individual or a duly authorized representative and must provide the mailing address, phone number, fax number (if available), and E-mail address (if available) of a designated point of contact.

• The submission must describe the cause and the purposes for which the funds would be spent.

• The submission must demonstrate that the cause to be funded has broad national appeal, and that the cause is in the national public interest and furthers human welfare. Respondents should submit supporting documentation demonstrating that funding the cause would benefit the national public interest.

• The submission must be accompanied by a letter from an executive agency (or agencies) on agency letterhead representing that it is an executive agency as defined under 5 U.S.C. 105, it is willing and able to implement the proposal, and it is willing and able to meet the requirements of the Act, if it is selected. The letter must be signed by a duly authorized representative of the agency.

• Consideration for evaluation will not be given to proposals that request support for the following: Anniversaries; public works; people; specific organizations or associations; commercial enterprises or products; cities, towns, municipalities, counties, or secondary schools; hospitals, libraries, or similar institutions; religious institutions; causes that do not further human welfare; or causes determined by the Postal Service or the CSAC to be inconsistent with the spirit, intent, or history of the Act.

• Artwork and stamp designs should not be submitted with proposals.

Interested persons should also pay particular attention to 39 CFR 551.3(h), which details procedures for identification of recipient executive agencies.

Proposal submissions become the property of the Postal Service and are not returned to persons who submit them. Persons who submit proposals are not entitled to any remuneration, compensation, or any other form of payment, whether their proposal submissions are selected or not, for any reason.

Proposals will not be considered from any contractor of the Postal Service that may stand to benefit financially from the Semipostal Stamp Program; or members of the CSAC and their immediate families, and employees or contractors of the Postal Service, and their immediate families, who are involved in any decision-making related to causes, recipient agencies, or artwork for the Semipostal Stamp Program.

Stanley F. Mires,
Chief Counsel, Legislative.

[FR Doc. 01-14749 Filed 6-11-01; 8:45 am]

BILLING CODE 7710-12-U